DEPARTMENT OF THE INTERIOR

National Park Service

Notice of Intent to Repatriate a Cultural Item in the Possession of the Peabody Museum of Archaeology and Ethnology, Harvard University, Cambridge, MA

AGENCY: National Park Service.

ACTION: Notice.

Notice is hereby given under the Native American Graves Protection and Repatriation Act, 43 CFR 10.10 (a)(3), of the intent to repatriate a cultural item in the possession of the Peabody Museum of Archaeology and Ethnology, Harvard University, Cambridge, MA, that meets the definition of “unassociated funerary object” under Section 2 of the Act.

This notice is published as part of the National Park Service's administrative responsibilities under NAGPRA, 43 CFR 10.2 (c). The determinations within this notice are the sole responsibility of the museum, institution, or Federal agency that has control of this cultural item. The National Park Service is not responsible for the determinations within this notice.

The one cultural item is a stone bear effigy.

In 1902, this cultural item was washed out from a grave on the Klamath Reservation and collected by an unknown Klamath Indian, who gave the cultural item to Mr. L. Warren. In 1903, Mr. Warren gifted this cultural item to the Peabody Museum of Archaeology and Ethnology.

According to museum records, this cultural item was recovered from a grave on the Klamath Reservation, Oregon. Based on the location of the burial and the cultural information provided in museum documentation, this burial was most likely a Klamath burial from the historic period. Historic sources, oral traditions, and consultation information support this cultural item's being from the burial of a Klamath individual from traditional Klamath territory in Oregon.

Based on the above-mentioned information, officials of the Peabody Museum of Archaeology and Ethnology have determined that, pursuant to 43 CFR 10.2 (d)(2)(ii), this cultural item is reasonably believed to have been placed with or near individual human remains at the time of death or later as part of the death rite or ceremony and is believed, by a preponderance of the evidence, to have been removed from a specific burial site of an Native American individual. Officials of the Peabody Museum of Archaeology and Ethnology also have determined that, pursuant to 43 CFR 10.2 (e), there is a relationship of shared group identity that can be reasonably traced between this unassociated funerary object and the Klamath Indian Tribe of Oregon.

This notice has been sent to officials of the Klamath Indian Tribe of Oregon. Representatives of any other Indian tribe that believes itself to be culturally affiliated with this unassociated funerary object should contact Barbara Isaac, Repatriation Coordinator, Peabody Museum of Archaeology and Ethnology, 11 Divinity Avenue, Cambridge, MA 02138, telephone (617) 495-2254, before April 25, 2001. Repatriation of this unassociated funerary object to the Klamath Indian Tribe of Oregon may begin after that date if no additional claimants come forward.

Dated: March 12, 2001.
John Robbins,
Assistant Director, Cultural Resources Stewardship and Partnerships.

[FR Doc. 01-7384 Filed 3-23-01; 8:45 am]

BILLING CODE 4310-70-F